DEPARTMENT OF EDUCATION

[Docket No. ED-2018-ICCD-0028]

Agency Information Collection Activities; Comment Request; Higher Education Hurricane and Wildfire Relief Program Application

AGENCY: Office of Postsecondary Education (OPE), Department of Education (ED).

ACTION: Notice.

SUMMARY: In accordance with the Paperwork Reduction Act of 1995, ED is requesting the Office of Management and Budget (OMB) to conduct an emergency review of a new information collection.

DATES: Approval by the OMB has been requested by before March 28, 2018. A regular clearance process is also hereby being initiated. Interested persons are invited to submit comments on or before March 28, 2018.

ADDRESSES: To access and review all the documents related to the information collection listed in this notice, please use http://www.regulations.gov by searching the Docket ID number ED-2018-ICCD-0028. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW, LBJ, Room 216-34, Washington, DC 20202-4537.

FOR FURTHER INFORMATION CONTACT: For specific questions related to collection activities, please contact Lauren Kennedy, 202-453-7957.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Higher Education Hurricane and Wildfire Relief Program Application.

OMB Control Number: 1840—NEW.

Type of Review: A new information collection.

Respondents/Affected Public: Private Sector.

Total Estimated Number of Annual Responses: 550.

Total Estimated Number of Annual Burden Hours: 16,000.

Abstract: The Bipartisan Budget Act of 2018, signed into law by President Trump on February 9, 2018, included significant new funding to support disaster relief. The U.S. Department of Education (Department) will award up to $2.7 billion to assist K-12 schools and school districts and institutions of higher education (IHEs) in meeting the educational needs of students affected by Hurricanes Harvey, Irma and Maria and the 2017 California wildfires. This disaster assistance will help schools, school districts and IHEs return to their full capabilities as quickly and effectively as possible. Pursuant to 5 CFR 1320.13, the Department requests that OMB review this collection under its emergency procedures, based on harm to public due to an unanticipated/unforeseen natural disaster event that occurred beyond ED's control. There are two higher education funding opportunities that require emergency clearance under the Paperwork Reduction Act: Emergency Assistance to Institutions of Higher Education: Congress appropriated $100 million for this program; which will provide emergency assistance to IHEs and their students in areas directly affected by the covered disasters or emergencies. And the Defraying Costs of Enrolling Displaced Students in Higher Education: Congress appropriated $75 million for this program, which will provide payments to IHEs to help defray the unexpected expenses associated with enrolling displaced students from IHEs directly affected by a covered disaster or emergency, in accordance with criteria to be established and made publicly available.

Additional Information: An emergency clearance approval for the use of the system is described below due to the following conditions:

The Bipartisan Budget Act of 2018, signed into law by President Trump on February 9, 2018, included significant new funding to support disaster relief. The U.S. Department of Education (Department) will award up to $2.7 billion to assist K-12 schools and school districts and institutions of higher education (IHEs) in meeting the educational needs of students affected by Hurricanes Harvey, Irma and Maria and the 2017 California wildfires. This disaster assistance will help schools, school districts and IHEs return to their full capabilities as quickly and effectively as possible.

Pursuant to 5 CFR 1320.13, the Department requests that OMB review this collection under its emergency procedures, based on harm to public due to an unanticipated/unforeseen natural disaster event that occurred beyond ED's control.

There are two higher education funding opportunities that require emergency clearance under the Paperwork Reduction Act:

• Emergency Assistance to Institutions of Higher Education: Congress appropriated $100 million for this program; which will provide emergency assistance to IHEs and their students in areas directly affected by the covered disasters or emergencies.

• Defraying Costs of Enrolling Displaced Students in Higher Education: Congress appropriated $75 million for this program, which will provide payments to IHEs to help defray the unexpected expenses associated with enrolling displaced students from IHEs directly affected by a covered disaster or emergency, in accordance with criteria to be established and made publicly available.

Dated: March 20, 2018.
Kate Mullan,
Acting Director, Information Collection Clearance Division, Office of the Chief Privacy Officer, Office of Management.

[FR Doc. 2018-06028 Filed 3-23-18; 8:45 am]

BILLING CODE 4000-01-P